DEPARTMENT OF HEALTH AND HUMAN SERVICES

National Institutes of Health

Notice of Establishment

Pursuant to the Federal Advisory Committee Act, as amended (5 U.S.C. Appendix 2), the Director, National Institutes of Health (NIH), announces the establishment of the Board of Scientific Counselors, National Center for Biotechnology Information, National Library of Medicine (Board).

The Board shall advise the Director, NIH; the Deputy Director for Intramural Research, NIH; the Director, National Library of Medicine (NLM); and the Director, National Center for Biotechnology Information (NCBI), concerning the intramural research and development programs of the NCBI, NLM through regularly scheduled visits to the NLM for assessment of the research and development programs in progress at the NCBI, assessments of proposed programs and evaluation of the productivity and performance of staff scientists.

The Board shall consist of 8 members, including the Chair, appointed by the Director, NIH, from authorities knowledgeable in the fields of health sciences, computer sciences, information sciences, information technology, library science, behavioral sciences, social sciences, educational technology, communications engineering, molecular biology, biochemistry, genetics, structural chemistry, mathematics, statistics, and multi-media development and utilization.

Duration of this committee is continuing unless formally determined by the Director, NIH that termination would be in the best public interest.

Dated: November 29, 2005.
Elias Zerhouni,
Director, National Institutes of Health.

[FR Doc. 05-23797 Filed 12-07-05; 8:45 am]

BILLING CODE 4140-01-M